DEPARTMENT OF DEFENSE

Department of the Army; Corps of Engineers

Coastal Engineering Research Board (CERB)

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: September 6-7, 2007.

Place: Hilton Alexandria Old Town, 1767 King Street, Alexandria, VA 22314.

Time: 8 a.m. to 5 p.m. (September 6, 2007). 8 a.m. to 11 a.m. (September 7, 2007).

FOR FURTHER INFORMATION CONTACT: Inquiries and notice of intent to attend the meeting may be addressed to Colonel Richard B. Jenkins, Executive Secretary, Commander, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The morning session on Thursday, September 6, will be devoted to a report of the Board's findings and recommendations from its recent mission to The Netherlands regarding Systems Approaches to Flood Risk Management. The morning session will also include presentations from the U.S. Army Corps of Engineers to review research underway or planned for immediate initiation regarding flood risk management. The afternoon session will include presentations from other Federal and State agencies engaged in flood risk management in the United States. Friday morning, September 7, is devoted to Board Executive Session discussing ongoing initiatives and actions.

These meetings are open to the public; participation by the public is scheduled for 4 p.m. on Thursday, September 6.

The entire meeting is open to the public, but since seating capacity of the meeting is limited, advance notice of attendance is required. Oral participation by public attendees is encouraged during the time scheduled on the agenda; written statements may be submitted prior to the meeting or up to 30 days after the meeting.

Richard B. Jenkins,
Colonel, Corps of Engineers Executive Secretary.

[FR Doc. 07-4056 Filed 8-17-07; 8:45 am]

BILLING CODE 3710-61-M